INTERNATIONAL TRADE COMMISSION

[Investigation Nos. 701-TA-506 and 508 and 731-TA-1238-1243 (Review)]

Non-Oriented Electrical Steel From China, Germany, Japan, Korea, Sweden, and Taiwan

Determination

On the basis of the record ¹ developed in the subject five-year reviews, the United States International Trade Commission (“Commission”) determines, pursuant to the Tariff Act of 1930 (“the Act”), that revocation of the countervailing duty orders on non-oriented electrical steel from China and Taiwan and the antidumping duty orders on non-oriented electrical steel from China, Germany, Japan, Korea, Sweden, and Taiwan would be likely to lead to continuation or recurrence of material injury to an industry in the United States within a reasonably foreseeable time.

¹ The record is defined in § 207.2(f) of the Commission's Rules of Practice and Procedure (19 CFR 207.2(f)).

Background

The Commission instituted these reviews on November 1, 2019 (84 FR 58743) and determined on February 4, 2020 that it would conduct full reviews (85 FR 8325, February 13, 2020). Notice of the scheduling of the Commission's reviews and of a public hearing to be held in connection therewith was given by posting copies of the notice in the Office of the Secretary, U.S. International Trade Commission, Washington, DC, and by publishing the notice in the Federal Register on June 2, 2020 (85 FR 33711). In light of the restrictions on access to the Commission building due to the COVID-19 pandemic, the Commission conducted its hearing through written testimony and video conference on October 8, 2020. All persons who requested the opportunity were permitted to participate.

The Commission made these determinations pursuant to section 751(c) of the Act (19 U.S.C. 1675(c)). It completed and filed its determinations in these reviews on December 10, 2020. The views of the Commission are contained in USITC Publication 5140 (December 2020), entitled Non-Oriented Electrical Steel from China, Germany, Japan, Korea, Sweden, and Taiwan: Investigation Nos. 701-TA-506 and 508 and 731-TA-1238-1243 (Review).

By order of the Commission.
Issued: December 10, 2020.
Lisa Barton,
Secretary to the Commission.

[FR Doc. 2020-27592 Filed 12-15-20; 8:45 am]

BILLING CODE 7020-02-P